DEPARTMENT OF HOUSING AND URBAN DEVELOPMENT

[Docket No. FR-5107-N-01]

Notice of Opportunity To Register Early and Other Important Information for Electronic Application Submission via Grants.gov

AGENCY: Office of Assistant Secretary for Administration, HUD.

ACTION: Notice.

SUMMARY: The purpose of this notice is to provide instructions and advice to potential applicants applying for funding under HUD's competitive grant programs that are available through Grants.gov. This notice provides information to help applicants better understand the electronic submission process. To facilitate the Fiscal Year (FY) 2007 federal grant application process, prospective applicants for HUD funding should immediately begin the registration process or renew their registration from prior years. HUD believes that by facilitating a better understanding of the electronic submission process, applicants will be able to more easily make the transition to electronic application submission.

Grants.gov is the Federal portal for applicants to electronically find and apply for over 1,000 funding opportunities made available by the twenty-six federal grant-making agencies. Grants.gov offers the applicant community a common Web site where applicants can use one password and ID to apply for a variety of federal assistance programs. To date, all 26 Federal grant-making agencies have posted their funding opportunities and electronic application packages to Grants.gov.

To apply on-line electronically, Grants.gov requires an electronically authorized signature, known as eAuthentication. This requirement for an authenticated electronic signature serves to protect the applicant and the applicant's information, and to assure federal agencies that they are interacting with officials authorized to submit applications on behalf of applicant entities.

Through this notice, HUD is encouraging applicants to complete or update their registration, in advance of HUD posting its FY2007 grant opportunities. HUD found that issuing an Early Registration Notice in FY2006 eliminated many of the registration issues that applicants faced in FY2005, the first year that HUD used Grants.gov for posting its annual SuperNOFA. HUD believes that by issuing this notice in advance of the FY2007 funding cycle, applicants will have sufficient time to carefully review registration and submission requirements and to have their questions addressed regarding the registration and submission processes. HUD anticipates that it will post its funding opportunities in late 2006 or early 2007. HUD strongly encourages prospective applicants for FY2007 HUD grants to register or renew their registration for application submission via Grants.gov as soon as possible by following the instructions in this notice.

DATES: Early registration commences with the issuance of this notice and ends when HUD publishes its SuperNOFA.

FOR FURTHER INFORMATION CONTACT: If you need further information about this Notice, contact the NOFA Information Center, at (800) HUD-8929 ((800) 483-8929). Persons with hearing or speech impairments may access this number via TTY by calling the Federal Information Relay Service at (800) HUD-2209 ((800) 483-2209). The NOFA Information Center is open between the hours of 10 a.m. to 6:30 p.m. Eastern Standard Time, Monday through Friday, except on federal holidays.

If you have questions about registration or submissions issues, contact the Grants.gov Contact Center at (800) 518-GRANTS (4726).

Full Text of Announcement

This Notice is divided into two sections. Section 1 describes the registration process including steps to renew/update an existing registration. Section 2 provides guidance to applicants that are experiencing upload or transmission issues. In FY2006, HUD successfully received over 5,000 applications via grants.gov. Less than 1% of applicants experienced submission issues. While these numbers are relatively small, HUD strives to assist all applicants in gaining a better understanding of the electronic submission process. This notice also serves to remind applicants to submit their applications in advance of the deadline date and when the Grants.gov help desk is open so that if issues arise, there is sufficient time to provide timely assistance.

Appendix A of this notice provides step-by step registration instructions to follow. Appendix B provides information on Do's and Don'ts regarding electronic application submission.

Section 1—Completing the Registration Process for New Applicants and Updating a Registration for Applicants That Are Currently Registered

A. The Need To Register With Grants.gov

Many federal grant-making agencies provide funding to organizational entities and some agencies are permitted to fund individuals; however, HUD only provides funding to organizations. This information, therefore, is directed to HUD applicants that are organizational entities.

Before an applicant can apply for a grant opportunity, the applicant must first register with Grants.gov to provide and obtain certain identifying information. Please note, however, that registration is a multi-step process. In addition, the registration process requires the applicant to provide information at Web sites other than Grants.gov. Registration protects both the applicant and the applicable federal agencies. Registration confirms that the applicant has designated a certain individual or entity to submit an application on behalf of the applicant and assures the federal agency that it is interacting with the designated representative of the applicant that has been authorized to submit the application.

B. Registration Steps for Organizations

1. Use of DUNS Numbers. In 2003, the federal government adopted a policy that applicants must obtain a Data Universal Numbering System (DUNS) number in order to receive funding. In order to submit an electronic application via Grants.gov, your organization must have a DUNS number. Dun and Bradstreet (D&B), a company that provides business information credit, marketing and purchasing decisions for more than 70 million businesses worldwide, issues DUNS numbers. Its data universal numbering system issues unique 9-digit numbers that are used by businesses and the federal government to track funding and business related information and relationships. The information provided in the D&B registration will be used by the Central Contactor Registration system in the registration process, so applicants should carefully review their Dun and Bradstreet information for accuracy.

2. Registration in the Central Contractor Registration (CCR). The CCR is the primary vendor database for the federal government. The CCR was established to assist federal government agency acquisitions and procurements. The CCR collects, validates, stores and disseminates data in support of agency acquisitions. Registration in CCR has been extended from the procurement and acquisition area to grants. For grants, CCR stores an applicant's information, allowing Grants.gov to verify an applicant's identity and identify key business contacts for the organization. The CCR registration process consists of completing a Trading Partner Profile (TPP), which contains general, corporate, and financial information about your organization. While completing the TPP, you will need to identify a CCR Point of Contact (POC) who will be responsible for maintaining the information in the TPP and giving authorization to individuals to serve as Authorized Organization Representatives (AOR) and an E-Business Point of Contact (E-Business POC). The AOR will submit applications through Grants.gov for your organization. The person that completes the TPP can be the CCR POC, E-Business POC, and the AOR or they can be different people.

3. CCR Use of Dun and Bradstreet Information. As part of CCR's ongoing effort to ensure that all registration information is standardized, easily shared across many government systems, and to reduce data entry by registrants, CCR pre-populates the following data fields from D&B: Legal Business Name, Doing Business Name (DBA), Physical Address, and Postal Code/Zip+4. Registrants will not be able to enter/modify these fields in CCR; they will be pre-populated using D&B Data Universal Numbering System record data. During new registration or when updating a record, the registrant has a choice to accept or reject the information provided from D&B. Under the revised system, if the CCR registrant agrees with the D&B supplied information, the D&B data will be accepted into the CCR registrant record. If the registrant disagrees with the D&B supplied information the registrant will need to go to the D&B Web site http://fedgov.dnb.com/webform to modify the information currently contained in D&B's records before proceeding with its CCR registration. Once D&B confirms the modification, the registrant must revisit the CCR Web site and “accept” D&B's changes. Only at this point will the D&B data be accepted into the CCR record. D&B can take two business days to send modified data to CCR and that timeframe may be longer in some countries.

Large organizations and organizations that set-up separate bank accounts for different grants can set up what is known as DUNS+4 within the CCR record, to track the flow of funding and disbursements within the parent organizations and any number of sub-agencies or departments within the organization. States and universities frequently identify their sub-organizations through the use of DUNS+4 numbering.

4. CCR Employer Identification Number/Taxpayer Identification Number (EIN/TIN) Validation. Please note that as of October 30, 2005, the Central Contractor Registration (CCR) began validating the TIN and Taxpayer Name of each new and updating CCR registrant with the Internal Revenue Service (IRS). The EIN/TIN matching process is a joint effort between the General Services Administration (GSA), Department of Defense (DoD), and the IRS to improve the quality of data in government acquisition systems. If there are discrepancies in the taxpayer information at IRS and the registration information provided through D&B, the discrepancies must be cleared before the registration can be completed or updated.

A notice has gone out to CCR registrants informing them of the IRS validation in CCR registration. In order to complete your CCR registration and qualify as a vendor eligible to bid for federal government contracts or apply for federal grants, the EIN/TIN and Employer/Taxpayer Name combination you provide in the IRS Consent Form at CCR must match exactly to the EIN/TIN and Employer/Taxpayer Name in the IRS database. It will take at least one to two business days to validate new and updated records prior to becoming active in CCR. Therefore, please be sure that the data items provided to D&B match information that you have provided to the IRS. Otherwise, when the validation check with IRS is done, the registration in D&B, and the CCR will not match the IRS information and will result in an error message being generated. This will prevent you from completing your registration until the discrepancies have been resolved. Applicants should allow sufficient time to review their D&B and CCR information. HUD recommends that applicants carefully review their D&B and CCR registration information for accuracy immediately upon publication of this Notice and make any necessary corrections. Beginning the registration process now will help an applicant avoid possible delays with the timely submission of applications.

5. Registration with a Credential Provider. In order to safeguard information, Grants.gov uses E-Authentication, the federal program that ensures secure transactions. E-Authentication defines the level of trust or trustworthiness of the parties involved in a transaction through the use of credential providers. Credential Providers are organizations that validate the electronic identity of an individual through electronic credentials, personal identification numbers, passwords or other identifying information, for Grants.gov. This is the process of determining, with a degree of assurance, that someone is really who he or she claims to be. An Authorized Organization Representative (AOR), the person(s) named by an agency who has legal authority to submit an application for funding on behalf of the agency, must register with a Credential Provider to obtain a USER ID and Password that will be used to register with Grants.gov.

Beginning August 30, 2007, organizations will have a choice of three federally approved credential providers to obtain their authentication services—(1) The Agriculture Department; (2) the Office of Personnel Management's Employee Express; and (3) the current provider—Operational Research Consultants, Inc. (ORC). HUD applicants who already hold a Grants.gov user name and password through ORC and submit applications prior to August 20, 2007, do not have to make any changes to their ORC registration. After August 20, 2007, users will have an option to retain their registration with ORC or choose from the other credential providers on the list.

6. Registration with Grants.gov. After creating a username and password identity at a Credential Provider, an AOR, the person(s) named by an agency to submit an application for funding on behalf of the agency, must register at Grants.gov. The AOR must have legal authority to submit the application on behalf of the organization. Designated AORs register the USER ID and Password created with the Credential Provider at Grants.gov. After the AOR registers with Grants.gov, the organization's E-Business POC will be sent an e-mail from Grants.gov, indicating that someone from the organization has registered as an AOR.

7. Approval of the AOR. The E-Business POC must enter Grants.gov and give the AOR approval to submit an application to Grants.gov. By authorizing a person to submit on behalf of the organization, the organization is stating that the person has the legal authority to submit the application and make a legally binding commitment for the organization. The registration is complete when an AOR has been approved to submit an application on behalf of the organization. If the E-Business POC does not provide authorization, Grants.gov will not accept the grant application.

C. Renewing Your CCR Registration.

Applicants are required to renew/update their information in CCR on an annual basis. Applicants can renew their organizations' registration at http://www.ccr.gov. If you do not renew your registration it will expire, resulting in the rejection of your Grants.gov application. Applicants can renew their organizations' registration at http://www.ccr.gov.

D. Time Allotted for Registration

Registration with Grants.gov, which must be completed prior to any grant application submission, takes approximately two to four weeks. The length of time depends on when the steps in the registration process are completed; the volume of traffic on the various sites involved in the registration process; and the ability of the applicant to determine who will be the person responsible for submitting the grant application, and having that person authorized through the registration process as the AOR. Registration can take longer if the information provided to D&B and captured in the CCR does not match IRS Taxpayer information data previously provided by the applicant organization. Registering early should allow the applicant sufficient time to complete the registration process and respond to any questions that might arise during the process.

Appendix A of this Notice provides step-by-step registration instructions to follow.

Section 2—Corrective Actions for Application Submission Problems That Affected HUD Applications in FY2006

A. Application Submission

In FY2006, HUD successfully received over 5000 electronic applications and only 30 paper applications. Less than 1 percent of the applicants submitting electronically had a problem that resulted in an application not being successfully submitted. Applicants are advised to submit their applications 24-72 hours prior to the application deadline date so that if any problem arises, the applicant will have sufficient time to correct it and successfully submit the application prior to the deadline date. Please remember that to have a successful submission, applications must be received and validated by Grants.gov prior to 11:59:59 p.m. on the application deadline date. For example, if an application is due on November 10, 2006, you should submit your application no later than November 7, 2006 to allow sufficient time for your application to be validated by Grants.gov.

B. Applications Rejected by Grants.gov and Corrective Actions

The following describes the most common HUD grant application submission problems and recommended corrective actions for them.

1. Incorrect DUNS number. The DUNS number in the application does not match the applicant DUNS number registered at Grants.gov. An improper DUNS number will result in the submitter receiving a rejection notice that states “INVALID_DUNS_ERROR” and “UNAUTHORIZED_SUBMITTER_ERROR” .

Corrective Action: Upon receiving the “INVALID_DUNS_ERROR,” the applicant should immediately check the application DUNS number, correct the error (if any) and resubmit the application. If the DUNS number is correct, the applicant should immediately contact Grants.gov to notify them of the problem and ask why it received the “INVALID_DUNS_ERROR” and take any corrective measures required.

2. You receive a rejection message with the following error message: “UNAUTHORIZED_SUBMITTER_ERROR.”

This error occurs if a submitter has not registered with a Credential Provider and with Grants.gov, or when the E-Business Point of Contact has not approved the submitter as an Authorized Organization Representative (AOR) on Grants.gov.

Corrective Action: The AOR should verify that he or she has registered with a Credential Provider and has registered the credential at Grants.gov. If the answer to both these questions is yes, the E-Business Point of Contact should immediately go to the Grants.gov Web site and approve the submitter as an AOR.

3. Unsuccessful Submission Attempt. The applicant has tried to submit the application but was unsuccessful. When trying to submit the application, the following occurs:

• Nothing happens.

• The screen goes blank.

• The wheel keeps spinning.

Corrective Action: In these cases, your files are not connecting to Grants.gov and the transmission problems are occurring locally. There are several reasons that may be the cause of the problem. Applicants should be aware that every computer is configured differently and many organizations have firewalls that limit the size of files going out or into an organization. These instructions are designed to address the most common reasons faced by applicants.

a. Check to see if you have downloaded the newest version of the application software from Grants.gov. The application will not operate properly if the most recent software update has not been downloaded and completely installed. The Grants.gov software requires applicants to download the software, run an install procedure, and then reboot the computer for the installation to work properly.

b. Grants.gov also recommends uploading the application from your desktop. Call the Grants.gov help desk at (800) 518-4726; operators can walk you through techniques that allow you to upload through your Internet browser.

c. Check to see if your computer has sufficient memory. Check your system, including Random Access Memory and the hard drive, to ensure that your computer has enough available memory to process the application. If your hard drive is nearly full and you have multiple grant applications on your computer that you have successfully submitted or submitted in a previous year, remove those applications from your computer and save them on a CD, DVD, or jump drive so that you can free up needed space on your computer. If the upload still remains a problem, reduce the size of your application by using the facsimile solution for some or all of your attachment files. HUD will not accept an application that is sent entirely by facsimile. At a minimum, the downloaded application package with the xml-based files, including a completed SF-424, must be submitted to Grants.gov. If these suggestions do not solve the problem, immediately contact the Grants.gov help desk.

d. Check if your organization or your Internet Service Provider limits the size of the files sent over the Internet. HUD has found that many organizations have firewalls that set limits on file sizes or access to particular sites. HUD has also found that some dial-up Internet Service Providers limit the size of files uploaded to the Internet. In these circumstances HUD recommends reducing the size of the application package by zipping files using WinZip10. In addition, several other techniques are described below to reduce the file size of a document if you are using Microsoft Word 2000.

(1) Turn off fast saves. Using fast saves to save a document requires more disk space while your document is open than using a full save. You may be able to save disk space by turning off fast saves. On the Tools menu, click “Options”, and then click the “Save” tab. Clear the Allow fast saves check box.

(2) Delete one or more versions of a document. Creating multiple versions of a document using the Versioning feature may increase file size. To check whether a document contains other versions, click Versions on the File menu. If other versions exist, you may be able to reduce the file size by deleting the oldest versions. Delete one or more versions of a document. On the “File” menu, click “Versions”. Click the version of the document you want to delete. To select more than one version, hold down CTRL as you click each version. Click “Delete”.

4. Disk Full or Out of Memory. This is related to the size of the files that you are trying to upload and the capacity of your computer to handle the load. See item 3 above.

Corrective Action: Create more room on your computer by taking off old files that are not needed, reducing the size of the files being uploaded, or submitting part of your application using the facsimile solution. There are other ways to address this issue, but because each computer is configured differently and there are numerous variables to take into account as to why an application can not upload to make the connection to Grants.gov, HUD stresses the need to apply early and to submit your application when the Grants.gov help desk is open so that if problems arise, you can contact Grants.gov when the service representatives are there to help you.

5. Computer keeps freezing. Often a computer will “freeze” because there is not enough memory or hard storage space to handle the files.

Corrective Action: If your computer freezes, one possible cause may be that you do not have enough memory or hard storage to handle the file. Follow these steps to check your computer's resources. The information will also be useful to the help desk staff in analyzing your problem.

a. Use the Task Manager capability on your computer to close down the task that is not running properly. If needed, shut down the computer and reboot. Be aware that if you have not saved your work in progress when you reboot, you may lose the unsaved portion of your submission. Always periodically save your work.

b. If you have a My Computer Icon on your desktop, right click on it. If you do not have a My Computer Icon on your desktop, go to step d.

c. In the Properties dialog box, on the General tab, look in the lower right corner and record the Processor speed and amount of RAM, then click OK to close the dialog box.

(1) Double click on the same My Computer icon to open Windows Explorer.

(2) Right click on the hard drive or server to where you are saving the file or from which you are uploading the file and select Properties.

(3) Record the size and amounts of free space on the drive.

(4) If the RAM or hard drive free space on your computer is no bigger or only slightly bigger than the file you are working with, that may be the problem.

(5) Be sure to give this information to the help desk when you call.

d. If you do not have a My Computer Icon on your desktop, click on the Start button in the lower left corner of your screen, then select My Computer from the pop-up menu. Select view system information to record processor speed and RAM as in 5c above, then click OK. The Windows Explorer window showing My Computer should remain on your screen. Follow step c above.

6. MEC Error. This is a general Microsoft error that is preventing communication between your computer and Grants.gov. This error is NOT a grants.gov-generated error; it is on the user's end. Grants.gov cannot troubleshoot this type of error code. There could be any number of reasons for this error, but the most common is that the size of the submission is causing a communication interruption.

Corrective Action: You should try to reduce the size of your application package by removing optional attachments or submitting required attachments manually (requires Agency approval). A firewall issue, either within your domain or with your Internet Service Provider, may also cause this.

7. Page not found/Error 404. This is an error message when a URL page that you requested is not available. You may not be able to find the page because of the following: The page does not exist; a mistyped address; an out-of-date bookmark/favorite; or a search engine has an out-of-date listing.

Corrective Action: Check the address to be sure that it is correct. If it is, wait a few moments and try again.

8. Web site found waiting for reply. Message is related to the user's desktop machine/browser.

Corrective Action: Most literature point to spyware/adware infestation that practically hijack the user's browser and cause tremendous slow down or no access at all. This is not related to any of the Grants.gov servers. This may be due to the user's desktop running two firewall software systems. Other industry literature talks about some corporate firewall that can cause this message to appear. There is also evidence that this message is related to users who are using a router connected to residential DSL/Cable services. In this case, it is a bandwidth issue.

9. Submission has been archived for later submission.

Corrective Action: Open Pure Edge viewer, click on the “ gear” symbol, which is user preferences, and ensure the setting is to “work online”.

10. Cannot launch viewer. This message occurs when trying to open up a saved application file. It indicates that the previous save resulted in a corrupt file, i.e. unusable.

Corrective Action: Applicant should try to revert to a previously saved version of the file or start over.

11. A virus was detected during the submission of your grant application package.

Corrective Action: Verify if any of your file attachments have a virus. When you have confirmed that you do not have a virus, resubmit your application.

12. Form was illegal XFD format—Processing Exception. You may receive this message after submitting an application. The grant opportunity for which you have applied is no longer accepting applications or may have been removed by the offering agency, or if the agency posted a new application package, you may be submitting an old application.

Corrective Action: Confirm the close date of your application. Confirm that the Funding Opportunity Number and the Competition ID on the package you are trying to submit matches the current package on Grants.gov. If you require additional information, contact the grantor agency directly.

Appendix B provides information on Do's and Don'ts to follow regarding electronic application submission.

For Additional Assistance

If you have questions about registration or submission issues, call the Grants.gov Contact Center at (800) 518-GRANTS (4726) or e-mail support@grants.gov. The Contact Center hours of operation are Monday-Friday 7 a.m. to 9 p.m. Eastern Standard Time.

If you need further information about this Notice, contact the NOFA Information Center at (800) HUD-8929 ((800) 483-8929).

If you are a hearing or speech-impaired person, you may reach any of the telephone numbers in this notice by calling the toll-free Federal Information Relay Service at (800) 877-8339.

In addition, HUD has a detailed Desktop Users Guide for Submitting Grant Applications that walks applicants through the electronic process, beginning with finding a funding opportunity, completing the registration process, and downloading and submitting the electronic application. The Desktop Users Guide includes helpful step-by-step instructions, screen shots, and error proof tips to assist applicants in becoming familiar with submitting applications electronically. The Desktop Users Guide is available on line at http://www.hud.gov/grants/index.cfm.

Dated: October 23, 2006.
Keith A. Nelson,
Assistant Secretary for Administration.

Appendix A—Registering for Electronic Application Submission

The following five steps must be completed to register with Grants.gov.

Step One: Obtain a Data Universal Number System (DUNS) Number

In order to submit an electronic application via Grants.gov, your organization will need a DUNS number. A DUNS number is a unique nine-character identification number provided by Dun & Bradstreet (D&B). You will use the same DUNS number throughout the registration and application process.

Prior to requesting a DUNS number, find out if your organization already has a DUNS number by contacting your chief financial officer or grant administrator. If your organization does not have a DUNS number you can immediately receive one by calling D&B at (866) 705-5711. It takes approximately ten minutes to get a DUNS number and there is no charge.

Note: Your registration is not finished until Steps Two through Five are completed.

Step Two: Register With The Central Contractor Registration (CCR)

Registering with CCR. Your organization must register or annually renew their registration with CCR to establish roles and IDs for representatives that will use Grants.gov to submit electronic applications. If you need assistance with the registration process, you can contact the CCR Assistance Center 24 hours, 7 days a week at (888) 227-2423 or (269) 961-5757 or online at www.ccr.gov. In addition, a CCR Handbook is available by clicking on the “CCR Handbook” tab at the top of the page at www.ccr.gov.

IRS Employer/Taxpayer Name Validation. When you register or renew your registration at CCR, during the registration process, you will complete an IRS Consent Form to allow the validation of your legal business name and Employer Identification Number (EIN) or Tax Identification Number (TIN). The information that you enter in CCR must match the IRS records for the most current tax year reported. Prior to becoming active in CCR, it will take at least one to two business days to validate new and updated records, longer if there are discrepancies. If you have questions about your EIN or TIN, call (800) 829-4933.

CCR Use of DUNS Information. During the CCR registration, your Legal Business Name, Doing Business Name (DBA), Physical Address, and Postal/Zip+4 will be pre-populated from the Dun and Bradstreet (D&B) database. If the information is correct, you can proceed with your registration. If not, you can make corrections at http://fedgov.dnb.com/webform. When D&B confirms that a modification has been made, you must re-visit CCR and “accept” D&B's changes. This process may take two to five business days.

Trading Partner Profile (TPP). The CCR registration process consists of completing a TPP.

Note: While completing the TPP, you will need to identify a CCR Point of Contact (CCR POC), who will be responsible for updating and renewing the CCR registration, an E-Business Point of Contact (E-Business POC) and an alternate, who will be responsible for identifying and naming individual as an Authorized Organization Representative (AOR).

The AOR will submit applications through Grants.gov for your organization and must be someone that has the right to enter into a legally binding commitment for the organization. The person that completes the TPP can be the CCR POC, E-Business POC, and the AOR or they can be different people.

To Start the CCR Registration Process:

• Go to www.ccr.gov. On the left side of the screen, click on “Start New Registration”.

• Enter your DUNS number at the next screen, “New Registration”.

• At the next screen, the CCR will assign a temporary confirmation number that allows you to save your registration as a work in progress. Your temporary confirmation number, along with your DUNS number, will let you access CCR to complete your application at a later date.

• To access your application at a later date, at www.ccr.gov, select “Finish Saved Registration Using Confirmation Number”.

• At the next screen, enter your DUNS number and temporary confirmation number.

• Follow the instructions on the next screens until you complete the TPP.

Create a MPIN. The final step of the TPP requires you to create a Marketing Partner ID Number (MPIN). The MPIN is a self-defined nine character password that the E-Business POC will need to access Grants.gov to authorize the AOR to submit a grant application.

CCR Registration Confirmation. After you complete the TPP, you will receive two notices if your registration was submitted successfully. The first notice welcomes you to CCR and will include a copy of your registration. The second notice provides you with a Web link/address where you can enter your DUNS number and temporary confirmation number to obtain your confidential TPIN.

Note: A Trading Partner Identification Number (TPIN), which is assigned by CCR, will replace the temporary confirmation number when your registration is approved and becomes active.

The TPIN is also your confidential password that confirms that you successfully registered in CCR and allows you to change your CCR information.

Current Registrants without a MPIN. If you currently have an active registration in CCR and you do not have a MPIN you will need to:

• Access your CCR registration by clicking on “Update or Renew Registration using TPIN”.

• Enter your DUNS number and TPIN. Click on the tab named “Points of Contact”, complete all fields for the E-Business POC and the alternate E-Business POC.

• Scroll down to the bottom of the “Points of Contact” page and create your own MPIN.

• Click on the “Validate/Save” button.

Renewing your CCR Registration. Applicants are required to renew/update their information in CCR on an annual basis. If you do not renew your registration it will expire and result in your Grants.gov application being rejected.

• To renew your registration, go to www.ccr.gov, and click on “Update or Renew Registrations Using TPIN”.

• Enter your DUNS number and TPIN, and click “Submit”.

• If there are no changes to the registration, click the “Validate/Save” button for the information to register in the system, then click “Submit”.

• If there are changes, enter the changes, and then click “Submit”.

Note: You must click on the “Validate/Save” or the “Renew Profile” button in “Registration Tools”.

Don't Know Your TPIN?

• If you are registered in CCR, but do not know your TPIN, go to www.ccr.gov. Click on “Update or Renew Registrations Using TPIN”.

• At the next screen click on “Don't Know Your TPIN? Click Here for a TPIN Letter request”.

• On the next screen enter your DUNS number and click on “Send TPIN Letter”. A confidential TPIN letter will be mailed to the CCR Point of Contact (POC) identified in the TPP. If you do not know your organization's CCR POC, call (888) 227-2423 for assistance.

Verify Status of Your CCR Registration. You can verify the status of your registration online at www.ccr.gov by clicking on “Search CCR”. When prompted, enter your DUNS number and click “Search”. The registration status is located at the top of the page. You can also call the CCR Assistance Center for the status of your registration. You should also check the ccr.gov Web site for any registration updates or changes.

Note: Your registration is not finished until Steps Three through Five are completed.

Step Three: Register With the Credential Provider

In order to safeguard the security of your electronic information, Grants.gov utilizes a Credential Provider to determine with certainty that someone is really who they claim to be. An assigned AOR must register with the Grants.gov Credential Provider to receive a username and password, which are needed to submit an application package through Grants.gov.

• To register with the Credential Provider go to: http://apply.grants.gov/OrcRegister.

• Scroll down the page and enter your DUNS number and click on “Register”.

• At the next screen scroll down and select “Get Your Credentials”.

• Complete and submit all information on the eAuthentication User Information screen.

• On the next screen you will confirm your information, create your own “User Name” and “Password”, and click on “Submit”. If all information has been entered correctly, you will receive a notice of Registration Success.

Note: Your registration is not finished until Steps Four and Five are completed.

Step Four: Register With Grants.gov

The AOR must register with Grants.gov in order to submit an application for an organization.

• To register with Grants.gov go to: https://apply.grants.gov/GrantsgovRegister.

• Enter your Username and Password supplied by the Credential Provider and click on “Register”. Complete all information on the “Authorized Organization Representative User Profile” screen and click “Submit”.

Upon following all steps correctly, you will receive an e-mail notice that you successfully registered with Grants.gov. The E-Business POC will receive an e-mail notice stating that someone has registered to submit grant applications on behalf of your organization.

Note: Your registration is not finished until Step Five is completed.

Step Five: Authorize an AOR To Submit a Grant Application

This is a final and very critical step in the registration process. Once a potential AOR registers with a Credential Provider and Grants.gov, the E-Business POC will receive an e-mail stating that someone has signed up to become an AOR for their organization. The E-Business POC will need to authorize the AOR as the Authorized Applicant that is approved to submit applications on behalf of the organization, before that person can submit an application.

Note: If an AOR has not been authorized by their E-Business POC, any application that is submitted will be rejected.

• To authorize an AOR to submit applications on behalf of the organization go to: https://apply.grants.gov/agency/AorMgrGetID. Or go to http://www.grants.gov, under Quick Links, click on E-Biz POC Login.

• Enter your DUNS and MPIN and click on “Login”. The next screen welcomes you to the “E-Business Points of Contact” section where you will be able to add and revoke AOR privileges.

• On the left side of the screen, select “Manage Applicants”.

• Click on the box (es) next to the name of the AOR(s) that you are assigning rights.

• Click on “Reassign Roles”.

• At the next screen, use the arrows to move the roles from one box to the other. To provide authorization, the “Current Roles” should indicate “Authorized Applicant”.

• Click on “Continue”. You will receive a notice that the role has been successfully reassigned.

• Click on “Continue”. Repeat the steps if you are assigning rights to multiple AORs.

• The AOR will receive an e-mail advising that the E-Business POC has provided them authorization to submit applications on behalf of their organization.

Check your AOR Status.

• An AOR can check their status at https://apply.grants.gov/ApplicantLoginGetID.

• Or go to http://www.grants.gov, under Quick Links, click on Applicant Login.

• At the next screen enter your Username and Password supplied by the Credential Provider, click on “Login”.

• On the left side of the screen, select “Manage Applicant Profile”. Your status will be either—“Approved” or “AOR Request Sent”.

• If the status is “Approved” you are authorized to submit grant applications on behalf of your organization.

• If the status is “AOR Request Sent” you have not been approved and you should contact your E-Business POC and have them authorize you as an AOR with Grants.gov.

For Additional Assistance the following resources are available:

HUD's Desktop Users Guide for Submitting Electronic Applications at: http://www.hud.gov/grants/index.cfm. The Guide includes helpful detailed step-by-step instructions, screen shots, and error proof tips to assist applicants in registering, finding, and applying for grants electronically.

Grants.gov registration checklists that guide you through the registration process are available at: http://www.grants.gov/applicants/register_your_organization.jsp.

If you have questions or need additional information, call the Grants.gov Contact Center at (800) 518-GRANTS (4726) or e-mail support@grants.gov. The Contact Center hours of operation are Monday-Friday 7 a.m. to 9 p.m. eastern standard time.

If you are a hearing or speech-impaired person, you may reach any of the telephone numbers in this guide by calling the toll-free Federal Information Relay Service at (800) 877-8339.

Appendix B—DO'S and DON'TS Regarding Electronic Application Submission

A. What You Should Do

1. DO register early.

2. DO renew your registration with CCR annually.

3. DO provide to Dun and Bradstreet the same Legal Business Name on record at the IRS. The Legal Business Name, Doing Business Name (DBA), Physical Address, and Postal Code/ Zip+4 will be pre-populated in CCR from D&B's records.

4. DO contact the IRS at (800) 829-4933 if you have questions about your Legal Business Name and/or EIN/TIN.

5. DO provide to CCR the same Legal Business Name and Employer Taxpayer Identification Number (EIN) or Taxpayer Identification Number (TIN) that you provided to the IRS. This data must match exactly. If these two fields are not identical at CCR, D&B, and the IRS, an error message will result and you will not be able to complete your registration until the discrepancies have been resolved.

6. DO check your AOR status at Grants.gov to make sure your E-Business POC has authorized you to submit an application on behalf of your organization.

7. DO look at HUD's Desktop Users Guide for Submitting Grant Applications, which walks applicants through the electronic process, beginning with finding a funding opportunity, completing the registration process, and downloading and submitting the electronic application. The Desktop Users Guide includes helpful step-by-step instructions, screen shots, and error proof tips to assist applicants in becoming familiar with submitting applications electronically. The Desktop Users Guide is available online at http://www.hud.gov/grants/index.cfm.

8. DO create a special folder for each new application and save all files related to the application in that folder. Some applicants create the folder directly on their computer's desktop. Check all attachment files and make sure they have a file extension of .doc, .pdf, .xls, .jpg, .jpeg or .zip.

9. DO make sure that file extensions are not in upper case. File extension must be lower case for the file to be opened.

10. DO keep file names not more than 50 characters without special characters or spaces in the file name.

11. DO review the application package and all the attachments to make sure it contains all the documents you want to submit. If it does, save it to your computer and remove previously saved versions.

12. DO review the application package and all the attachments to make sure it contains all the documents you want to submit. If it does, save it to your computer and remove previously saved versions.

13. DO run the Check Package for Errors feature on the application package and correct any problems identified.

14. DO expect a Confirmation notice from Grants.gov, which advises that your application has been received and is being processed. This Confirmation includes the Grants.gov Tracking Number; record this number for future use. Until you see a confirmation message on your screen, your application has not been submitted to Grants.gov.

15. DO use the Fax Form HUD-96011 as your Fax Cover Page if you fax attachments. In order for HUD to correctly match a fax to a particular application, the applicant must use and require third parties that fax documentation on its behalf to use the form HUD-96011 as the cover page of the facsimile.

B. What You Should NOT Do

1. DO NOT fax your entire application to HUD. HUD will disqualify applications submitted entirely by fax. Applicants should only use the fax method to submit required documents when they cannot be attached to the electronic application package as a pdf, .doc, .xls, jpeg, or jpg, or the size of the submission is too large to upload from the applicant's computer.

2. DO NOT use more than one of the following search fields (CFDA Number, Funding Opportunity Number or Funding Opportunity Competition ID) when downloading the grant application package and instructions. If you enter more than one, you will not find the instructions. HUD recommends that you use the CFDA Number.

3. DO NOT wait more than one hour for your application submission to be uploaded to Grants.gov. Stop the transmission and check the available disk and RAM space on your computer. HUD has found that difficulty in uploading a file from the applicant's desktop often occurs because the application package is too large for the applicant's computer to handle, or the applicant's network limits the size of files going in or out, or the Internet service provider has a file size limit. Therefore, in such instances, the application should be reduced in size by removing attachment files and submitting the information via the facsimile method using the form HUD 96011 as the cover page.

4. DO NOT use special characters (example: #, %, /, etc) in a file name.

5. DO NOT include spaces in the file name.

[FR Doc. E6-18224 Filed 10-30-06; 8:45 am]

BILLING CODE 4210-67-P